DEPARTMENT OF COMMERCE

Foreign-Trade Zones Board

[Order No. 2054]

Reorganization of Foreign-Trade Zone 31Under Alternative Site Framework; Granite City, Illinois

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, America's Central Port District, grantee of Foreign-Trade Zone 31, submitted an application to the Board (FTZ Docket B-9-2018, docketed February 5, 2018) for authority to reorganize under the ASF with a service area of Bond, Calhoun, Clinton, Greene, Jersey, Macoupin, Madison, Monroe, Montgomery, Randolph, St. Clair, and Washington Counties, Illinois, in and adjacent to the St. Louis Customs and Border Protection port of entry, FTZ 31's existing Sites 1, 5 and 7 would be categorized as magnet sites, Site 1 would be expanded, Sites 4 and 6 would be included as part of the expanded Site 1, and Site 3 as well as Subzones 31A and 31C would be removed from the zone;

Whereas, notice inviting public comment was given in the Federal Register (83 FR 5756, February 9, 2018) and the application has been processed pursuant to the FTZ Act and the Board's regulations; and,

Whereas, the Board adopts the findings and recommendations of the examiner's report, and finds that the requirements of the FTZ Act and the Board's regulations are satisfied;

Now, therefore, the Board hereby orders:

The application to reorganize FTZ 31 under the ASF is approved, subject to the FTZ Act and the Board's regulations, including Section 400.13, to the Board's standard 2,000-acre activation limit for the zone, and to an ASF sunset provision for magnet sites that would terminate authority for Sites 5 and 7 if not activated within five years from the month of approval.

Dated: July 5, 2018.
Gary Taverman,
Deputy Assistant Secretary for Antidumping and Countervailing Duty Operations, performing the non-exclusive functions and duties of the Assistant Secretary for Enforcement and Compliance, Alternate Chairman, Foreign-Trade Zones Board.

[FR Doc. 2018-14823 Filed 7-10-18; 8:45 am]

BILLING CODE 3510-DS-P